DEPARTMENT OF HEALTH AND HUMAN SERVICES

Centers for Medicare & Medicaid Services

42 CFR Part 412

[CMS-1710-CN]

RIN 0938-AT67

Medicare Program; Inpatient Rehabilitation Facility (IRF) Prospective Payment System for Federal Fiscal Year 2020 and Updates to the IRF Quality Reporting Program; Correction

AGENCY: Centers for Medicare & Medicaid Services (CMS), HHS.

ACTION: Proposed rule; correction.

SUMMARY: This document corrects technical errors in the proposed rule that appeared in the April 24, 2019 Federal Register entitled, “Medicare Program; Inpatient Rehabilitation Facility (IRF) Prospective Payment System for Federal Fiscal Year 2020 and Updates to the IRF Quality Reporting Program.”

DATES: This correction to the proposed rule published at 84 FR 17244 through 17335 on April 24, 2019, is applicable May 28, 2019.

FOR FURTHER INFORMATION CONTACT: Kate Brooks, (410) 786-7877.

SUPPLEMENTARY INFORMATION:

I. Background

In FR Doc. 2019-07885 (84 FR 17244), the proposed rule entitled, “Medicare Program; Inpatient Rehabilitation Facility (IRF) Prospective Payment System for Federal Fiscal Year 2020 and Updates to the IRF Quality Reporting Program” (referred to hereafter as the “FY 2020 IRF PPS proposed rule”), there were technical errors that are identified and corrected in this correcting document. The correction is applicable as of May 28, 2019.

II. Summary of Errors

On page 17329 of the FY 2020 IRF PPS proposed rule, we inadvertently misstated the additional minutes on admission as 7.4 instead of 7.8 and the total minutes of additional clinical staff time as 8.9 instead of 18.9 in our calculation of the estimated burden for the IRF quality reporting program (QRP).

III. Correction of Errors

In FR Doc. 2019-07885 (84 FR 17244), published April 24, 2019, on page 17329, first column, second paragraph, lines 8 through 13, the sentence “Specifically, we believe that there will be an addition of 7.4 minutes on admission, and 11.1 minutes on discharge, for a total of 8.9 minutes of additional clinical staff time to report data per patient stay.” is corrected to read “Specifically, we believe that there will be an addition of 7.8 minutes on admission, and 11.1 minutes on discharge, for a total of 18.9 minutes of additional clinical staff time to report data per patient stay.”.

Dated: May 22, 2019.
Wilma M. Robinson,
Deputy Executive Secretary to the Department, Department of Health and Human Services.

[FR Doc. 2019-11119 Filed 5-28-19; 8:45 am]

BILLING CODE 4120-01-P